DEPARTMENT OF HEALTH AND HUMAN SERVICES

Office of the Secretary

Agency Information Collection Activities: Proposed Collections; Comment Request

The Department of Health and Human Services, Office of the Secretary will periodically publish summaries of proposed information collection projects and solicit public comments in compliance with the requirements of section 3506(c)(2)(A) of the Paperwork Reduction Act of 1995. To request more information on the project or to obtain a copy of the information collection plans and instruments, call the OS Reports Clearance Office on (202) 690-6207.

Comments are invited on: (a) Whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including through the use of automated collection techniques or other forms of information technology.

Proposed Project 1. National Centers of Excellence in Women's Health Program Quantitative Evaluation Survey—NEW—The Office on Women's Health is proposing a survey of patients receiving services at the 15 National Centers of Excellence in Women's Health clinical care centers. This survey will provide an assessment of the level of patient satisfaction and service utilization at the Centers of Excellence for comparison to other data on women's health service utilization. Respondents: Individuals; Burden Information—Number of Respondents: 3,000; Burden per Response: 20 minutes; Total Burden: 1,000 hours.

Proposed Project 2. Office of Research Integrity (ORI) Educational Program: A Needs Assessment—NEW—ORI is proposing a survey of officials of research institutions to collect information on training needs for the promotion of research integrity and the prevention of scientific misconduct. The results of this study will be used to develop a strategic plan for the ORI Educational Program which will be consistent with the recent Secretarial directive requiring ORI to place greater emphasis on education and prevention. Respondents: Research Institutions; Burden Information—Number of Respondents: 500; Burden per Response: 10 minutes; Total Burden: 84 hours.

Send comments to Cynthia Agens Bauer, OS Reports Clearance Officer, Room 503H, Humphrey Building, 200 Independence Avenue, SW., Washington, DC, 20201. Written comments should be received within 60 days of this notice.

Dated: September 1, 2000.
Dennis P. Williams,
Deputy Assistant Secretary, Budget.

[FR Doc. 00-23410 Filed 9-12-00; 8:45 am]

BILLING CODE 4150-24-M